DEPARTMENT OF EDUCATION

34 CFR Chapter II

[Docket ID ED-2021-OESE-0044]

Proposed Priorities and Definitions—Education Innovation and Research—COVID-19 and Equity

AGENCY: Office of Elementary and Secondary Education, Department of Education.

ACTION: Proposed priorities and definitions.

SUMMARY: The Department of Education (Department) proposes priorities and definitions under the Education Innovation and Research (EIR) program, Assistance Listing Numbers 84.411A/B/C. The Department may use these priorities and definitions for competitions in fiscal year (FY) 2021 and later years. The Department proposes these priorities and definitions to support competitions under the EIR program for the purpose of developing, implementing, and evaluating projects designed to enhance instructional practice and improve achievement and attainment for high-need students in two key policy areas: Innovative approaches to addressing the impact of the novel coronavirus 2019 (COVID-19) pandemic on students and educators (namely, the interruption of traditional patterns of education due to school closures and the disproportionate social, emotional, physical and mental health, and academic impacts on particular student groups); and promoting equity in students' access to educational resources and opportunities. The Department believes that these priorities and definitions are essential to enable applicants to respond to the COVID-19 pandemic and address equity issues.

DATES: We must receive your comments on or before June 2, 2021.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “FAQ.”

• Postal Mail, Commercial Delivery, or Hand Delivery: If you mail or deliver your comments about the proposed priorities and definitions, address them to Ashley Brizzo, U.S. Department of Education, 400 Maryland Avenue SW, Room 3E334, Washington, DC 20202.

Privacy Note: The Department's policy is to make all comments received from members of the public available for public viewing in their entirety on the Federal eRulemaking Portal at www.regulations.gov. Therefore, commenters should be careful to include in their comments only information that they wish to make publicly available.

FOR FURTHER INFORMATION CONTACT: Ashley Brizzo, U.S. Department of Education, 400 Maryland Avenue SW, Room 3E344, Washington, DC 20202. Telephone: (202) 453-7122. Email: EIR@ed.gov.

If you use a telecommunications device for the deaf (TDD) or a text telephone (TTY), call the Federal Relay Service (FRS), toll free, at 1-800-877-8339.

SUPPLEMENTARY INFORMATION: Invitation to Comment: We invite you to submit comments regarding the proposed priorities and definitions. To ensure that your comments have maximum effect in developing the notice of final priorities and definitions, we urge you to clearly identify the priority and definition that each comment addresses.

We invite you to assist us in complying with the specific requirements of Executive Orders 12866 and 13563 and their overall requirement of reducing regulatory burden that might result from these proposed priorities and definitions. Please let us know of any further ways we could reduce potential costs or increase potential benefits while preserving the effective and efficient administration of the program.

During and after the comment period, you may inspect all public comments about the proposed priorities and definitions by accessing Regulations.gov. Due to the COVID-19 pandemic, the Department buildings are currently not open to the public. However, upon reopening you may also inspect the comments in person at 400 Maryland Avenue SW, Room 3E344, Washington, DC, between the hours of 8:30 a.m. and 4 p.m., Eastern time, Monday through Friday of each week except Federal holidays. Please contact the person listed under FOR FURTHER INFORMATION CONTACT.

Assistance to Individuals with Disabilities in Reviewing the Rulemaking Record: On request we will provide an appropriate accommodation or auxiliary aid to an individual with a disability who needs assistance to review the comments or other documents in the public rulemaking record for the proposed priorities and definitions. If you want to schedule an appointment for this type of accommodation or auxiliary aid, please contact the person listed under FOR FURTHER INFORMATION CONTACT.

Purpose of Program: The EIR program, established under section 4611 of the Elementary and Secondary Education Act, as amended (ESEA), provides funding to create, develop, implement, replicate, or take to scale entrepreneurial, evidence-based, field-initiated innovations to improve student achievement and attainment for high-need students; and rigorously evaluate such innovations. The EIR program is designed to generate and validate solutions to persistent education challenges and to support the expansion of those solutions to serve substantially larger numbers of students. The EIR program includes Expansion grants (84.411A), Mid-phase grants (84.411B), and Early-phase grants (84.411C).

Program Authority: Section 4611 of the ESEA, 20 U.S.C. 7261.

Proposed priorities:

This notice contains two proposed priorities.

Proposed Priority 1—Innovative Approaches to Addressing the Impact of COVID-19 on Underserved Students and Educators.

Background: COVID-19 has caused unprecedented disruption in schools across the country and drawn renewed attention to the ongoing challenges for underserved students (as defined in this notice). In response to the pandemic, educators have mobilized and continue to address the needs of all students. Researchers and educators are now working to understand and address the impact of inconsistent access to instruction, services, and supports, and other challenges.

State educational agencies, local educational agencies, and nonprofit organizations play essential roles in building capacity at the State and local level both to respond to current crises and also create the systems and structures to support long-term change. The Department is interested in projects that develop and evaluate evidence-based innovations for addressing the impact of COVID-19 in ways that accelerate learning for students and address students' social, emotional, physical and mental health, and academic needs, with a focus on targeting resources and supports to underserved students. The EIR program statute refers to “high-need students.” In addressing the needs of underserved students, the requirement for serving “high-need students” can also be addressed.

The Department seeks innovative strategies under this priority that support students' success in the classroom; are delivered by qualified individuals (based on requirements established by the applicant) who receive adequate training and support; and are aligned with the district's curriculum and effective practices.

Proposed Priority:

Projects designed to address the needs of underserved students and educators most impacted by COVID-19 through—

(a) Collaborating with key stakeholders, such as families, caretakers, students, educators, and community leaders, to assess and understand students' social, emotional, physical and mental health, as well as academic needs, in light of historical educational inequities and the impact of the COVID-19 pandemic; and,

(b) Developing and implementing strategies to address those needs through one or more of the following:

(1) Re-engaging students and strengthening relationships between educators and students.

(2) Supporting district- and school-wide use of personalized learning (as defined in this notice).

(3) Utilizing multi-tier systems of support (as defined in this notice).

(4) Providing educators with professional development and resources to use trauma-informed practices.

(5) Creating or supporting equitable and inclusive learning environments in schools.

(6) Ensuring students have access to additional specialized instructional support personnel (as defined in this notice) during their school day, at their school site.

(7) Finding and supporting students experiencing homelessness, including those not attending school during the pandemic.

(7) Providing additional supports to educators to address their mental health and well-being and instructional practice needs.

(9) Providing evidence-based supports and educational opportunities to accelerate grade-level student learning (especially for underserved students) through instructional practice, including those supported by technology in ways that do not contribute to tracking or remediation, which may include one or both of the following—

(i) High-quality tutoring (as defined in this notice), summer learning and enrichment, or opportunities for high-quality expanded learning time (as defined in this notice) as well as implementation of embedded, high-quality formative assessment to support personalization.

(ii) Providing targeted supports for high school students to prepare for post-secondary education transition and success.

Proposed Priority 2—Promoting Equity and Adequacy in Student Access to Educational Resources and Opportunities.

Background: Improving educational equity and adequacy is a priority for the Nation's education system, with particular emphasis on supporting underserved students. For example, the Department's 2018 news release on STEM course taking reported that of students enrolled in Calculus courses, 8 percent were black, when black students represent 16 percent of high school enrollment. A similar trend exists for physics courses in which 12 percent of black students were enrolled. (https://www2.ed.gov/about/offices/list/ocr/docs/stem-course-taking.pdf).

Additionally, during the 2015-16 school year, African American male students comprised 8 percent of students enrolled and 25 percent of students who received an out-of-school suspension. National data show that African American girls are 5.5 times more likely and Native American girls are 3 times more likely to be suspended from school than White girls (https://www2.ed.gov/about/offices/list/ocr/docs/school-climate-and-safety.pdf). Research shows, however, that these disparities are not the result of differences in behavior, but rather perceptions of student behavior. The Department is interested in projects that address these discipline disparities given that one among many concerns is the missed learning opportunities.

Although multiple factors influence teacher impact on student achievement, data related to experience and certification illuminate this is one area of equity concern. Schools with high enrollments of students of color were four times as likely to employ uncertified teachers as were schools with low enrollments of students of color. Students in schools with high enrollments of students of color also have less access to experienced teachers. In these schools, nearly one in every six teachers is just beginning his or her career, compared to one in every 10 teachers in schools with low enrollments of students of color (https://learningpolicyinstitute.org/sites/default/files/product-files/CRDC_Teacher_Access_REPORT.pdf). The Department is interested in projects that address issues of disparities in teacher certification and experience given research indicating that fully certified and experienced teachers relate to student achievement (Boyd, et al., 2006; Clotfelter, et al., 2007; Darling-Hammond, et al., 2005; Kini & Podolsky, 2016; Goe, 2007; Ladd & Sorenson, 2017; Podolsky, et al., 2019).

The Department seeks to support projects that propose innovative ways to address the various inequities in this country's education system. This type of innovation will better enable educators to work toward closing achievement gaps and helping all students succeed in school and reach toward their future goals.

Underserved students have less access to the educational opportunities they need to succeed in multiple ways including access to well-rounded and rigorous coursework; how discipline policies are applied; and students' more limited access to certified, experienced, and effective teachers.

The Department seeks projects that develop and evaluate evidence-based innovations to remedy the inequities in our education system.

Proposed Priority:

Projects designed to promote equity in access to critical resources for underserved students in prekindergarten through grade 12 through one or more of the following:

(a) Addressing inequities in access to fully certified, experienced, and effective teachers through one or more of the following activities:

(1) Improving the preparation, recruitment, early career support, and development of teachers in high-need or hard-to-staff schools.

(2) Reforming hiring, compensation, and advancement systems.

(3) Improving the retention of fully certified (including teachers certified in the area they are assigned to teach), experienced, and effective teachers in districts, schools, and classrooms serving high concentrations of underserved students through one or more of the following activities:

(i) Providing comprehensive, high-retention pathways into the profession.

(ii) Creating or enhancing opportunities for teachers' professional growth and leadership opportunities.

(iii) Delivering collaborative, job-embedded, and sustained professional development.

(iv) Improving workplace conditions to create opportunities for successful teaching and learning.

(b) Addressing inequities in access to and success in rigorous, engaging, and culturally and linguistically responsive teaching and learning environments that prepare students for college and career through one or both of the following activities:

(1) Increasing access to and success in middle school courses that are foundational to advanced coursework in high school; advanced courses and programs, including Advanced Placement, International Baccalaureate, high-quality dual or concurrent enrollment (as defined in this notice), and high-quality early college high school (as defined in this notice), programs; high-quality STEM programs; or high-quality career and technical education pathways that are integrated into the curriculum.

(2) Developing, and expanding access to, programs designed to provide a well-rounded education (as defined in this notice).

(c) Addressing bias (e.g., implicit and explicit) and creating inclusive, supportive learning environments.

(d) Including diverse stakeholders (including students) in State and local education decisions.

(e) Supporting discipline and resource equity through one or both of the following activities:

(1) Identifying and addressing, in collaboration with students, families, and educators, policies that result in the disproportionate use of exclusionary discipline through data collection and analysis (including school climate surveys) disaggregated by race, sex, English learner, disability status, gender-identity, and sexual orientation, in compliance with 20 U.S.C. 1232h and 34 CFR part 98, and other important variables.

(2) Identifying and addressing issues of equity in access to and the use of innovative tools, rigorous content, and effective teaching and learning practices, including by providing job-embedded professional development to educators on strategies for equitably integrating educational technology in ways that elevate student engagement beyond passive use and over-reliance on drill-and-practice to a more robust, creative, and playful medium.

(f) Addressing policies, practices, and procedures that contribute to significant disproportionality in special education or programs for English learners based on race or ethnicity.

(g) Improving the quality of educational programs in juvenile justice facilities (such as detention facilities and secure and non-secure placements) or supporting re-entry after release, by linking youth to education or job training programs.

Types of Priorities: When inviting applications for a competition using one or more priorities, we designate the type of each priority as absolute, competitive preference, or invitational through a notice in the Federal Register. The effect of each type of priority is as follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority we are particularly interested in applications that meet the priority. However, we do not give an application that meets the priority a preference over other applications (34 CFR 75.105(c)(1)).

Proposed Definitions:

Background:

We propose specific definitions for this program to promote a shared understanding of the scope of activities that could be supported by this program.

Proposed Definitions:

We propose to establish three definitions for this program (“high-quality tutoring,” “personalized learning,” and “underserved students”). We may apply one or more of these definitions in any year in which this program is in effect. We also intend to use definitions from section 8101 of the ESEA, and we provide the specific ESEA citations in parentheses.

Dual or concurrent enrollment means a program offered by a partnership between at least one institution of higher education and at least one local educational agency through which a secondary school student who has not graduated from high school with a regular high school diploma is able to enroll in one or more postsecondary courses and earn postsecondary credit that—

(a) Is transferable to the institutions of higher education in the partnership; and

(b) Applies toward completion of a degree or recognized educational credential as described in the Higher Education Act of 1965 (20 U.S.C. 1001 et seq.). (Section 8101(15) of the ESEA)

Early college high school means a partnership between at least one local educational agency and at least one institution of higher education that allows participants to simultaneously complete requirements toward earning a regular high school diploma and earn not less than 12 credits that are transferable to the institutions of higher education in the partnership as part of an organized course of study toward a postsecondary degree or credential at no cost to the participant or participant's family. (Section 8101(17) of the ESEA)

Expanded learning time means using a longer school day, week, or year schedule to significantly increase the total number of school hours, in order to include additional time for—

(a) Activities and instruction for enrichment as part of a well-rounded education; and

(b) Instructional and support staff to collaborate, plan, and engage in professional development (including professional development on family and community engagement) within and across grades and subjects. (Section 8101(22) of the ESEA)

High-quality tutoring means tutoring that is based on evidence-based strategies to support students' success in the classroom; is delivered in individualized or small-group settings; reflects differentiated support based on student need; is aligned with the district's curriculum; has established standards of intensity and dosage based on level of need; is delivered by tutors who are well-trained, who are supported with resources and personnel (such as a tutor coordinator), and who work closely with the student's teacher of record; and includes instruments to examine instructional quality and quantity.

Multi-tier system of supports means a comprehensive continuum of evidence-based, systemic practices to support a rapid response to students' needs, with regular observation to facilitate data-based instructional decision-making. (Section 8101(33) of the ESEA)

Personalized learning means instruction that is aligned with rigorous college- and career-ready standards so that the pace of learning and the instructional approach are tailored to the needs of individual learners. Learning objectives and content, as well as the pace, may all vary depending on a learner's needs. Personalized learning may also draw on a number of student-centered blended learning models (e.g., competency-based education, project-based learning, universal design for learning). In addition, learning activities are aligned with specific interests of each learner. Data from a variety of sources (including formative assessments, student feedback, and progress in digital learning activities), along with teacher recommendations, are often used to personalize learning.

Specialized instructional support personnel means—

(a) School counselors, school social workers, and school psychologists; and

(b) Other qualified professional personnel, such as school nurses, speech language pathologists, and school librarians, involved in providing assessment, diagnosis, counseling, educational, therapeutic, and other necessary services (including related services as that term is defined in section 602 of the Individuals with Disabilities Education Act (20 U.S.C. 1401)) as part of a comprehensive program to meet student needs. (Section 8101(47)(A) of the ESEA)

Underserved students means high-need students as determined by the applicant, which may include one or more of the following:

(a) Students who are living in poverty, especially those students who are also served by schools with high concentrations of students living in poverty.

(b) Students of color.

(c) Students who are members of federally recognized Indian Tribes.

(d) English learners.

(e) Students with disabilities.

(f) Disconnected youth, including but not limited to (1) students who lost significant amounts of in-person instruction as a result of the COVID-19 pandemic and, or (2) students who did not consistently participate in remote instruction when offered during school building closures.

(g) Migrant students.

(h) Students experiencing homelessness.

(i) Lesbian, gay, bisexual, transgender, queer, and intersex (LGBTQI+) students.

(j) Students in foster care.

(k) Students without documentation of immigration status.

(l) Pregnant, parenting, or caregiving students.

(m) Students impacted by the justice system including formerly incarcerated students.

(n) Students who are the first in their family to attend postsecondary education.

(o) Students enrolling in or seeking to enroll in postsecondary education for the first time at the age of 20 or older.

(p) Students who are working full-time while enrolling in postsecondary education.

(q) Students who are enrolling in or seeking to enroll in postsecondary education who are eligible for a Pell Grant.

(r) Adult students with low skills, including those with limited English proficiency.

Well-rounded education means courses, activities, and programming in subjects such as English, reading or language arts, writing, science, technology, engineering, mathematics, foreign languages, civics and government, economics, arts, history, geography, computer science, music, career and technical education, health, physical education, and any other subject, as determined by the State or local educational agency, with the purpose of providing all students access to an enriched curriculum and educational experience. (Section 8101(52) of the ESEA)

References

Boyd, D., Grossman, P., Lankford, H., Loeb, S., & Wyckoff, J. (2006). How changes in entry requirements alter the teacher workforce and affect student achievement. Education Finance and Policy, 1(2), 176-216.

Clotfelter, C.T., Ladd, H.F., & Vigdor, J.L. (2007). How and why do teacher credentials matter for student achievement? (NBER Working Paper 12828). Cambridge, MA: National Bureau of Economic Research.

Darling-Hammond, L., Holtzman, D., Gatlin, S.J., & Vasquez Heilig, J. (2005). Does teacher preparation matter? Evidence about teacher certification, Teach for America, and teacher effectiveness. Education Policy Analysis Archives, 13(42). DOI: https://doi.org/10.14507/epaa.v13n42.2005.

Kini, T., & Podolsky, A. (2016). Does teaching experience increase teacher effectiveness? A review of the research. Palo Alto, CA: Learning Policy Institute. https://learningpolicyinstitute.org/product/does-teachingexperience-increase-teacher-effectiveness-review-research.

Goe, L. (2007). The link between teacher quality and student outcomes: A research synthesis. Washington, DC: National Comprehensive Center for Teacher Quality.

Ladd, H.F., & Sorensen, L.C. (2017). Returns to teacher experience: Student achievement and motivation in middle school. Education Finance and Policy, 12(2), 241-279.

Podolsky, A., Darling-Hammond, L., Doss, C., & Reardon, S. (2019). California's positive outliers: Districts beating the odds. Palo Alto, CA: Learning Policy Institute. https://learningpolicyinstitute.org/product/positive-outliers-districts-beating-odds.

Final Priorities and Definitions:

We will announce the final priorities and definitions in a document in the Federal Register. We will determine the final priorities and definitions after considering responses to the proposed priorities and definitions and other information available to the Department. This document does not preclude us from proposing additional priorities and definitions, subject to meeting applicable rulemaking requirements.

Note: This document does not solicit applications. In any year in which we choose to use one or more of these priorities and definitions we invite applications through a notice in the Federal Register.

Executive Orders 12866 and 13563

Regulatory Impact Analysis

Under Executive Order 12866, the Office of Management and Budget (OMB) must determine whether this regulatory action is “significant” and, therefore, subject to the requirements of the Executive order and subject to review by OMB. Section 3(f) of Executive Order 12866 defines a “significant regulatory action” as an action likely to result in a rule that may—

(1) Have an annual effect on the economy of $100 million or more, or adversely affect a sector of the economy, productivity, competition, jobs, the environment, public health or safety, or State, local, or Tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This proposed regulatory action is not a significant regulatory action subject to review by OMB under section 3(f)(4) of Executive Order 12866.

We have also reviewed this proposed regulatory action under Executive Order 13563, which supplements and explicitly reaffirms the principles, structures, and definitions governing regulatory review established in Executive Order 12866. To the extent permitted by law, Executive Order 13563 requires that an agency—

(1) Propose or adopt regulations only on a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing these proposed priorities and definitions only on a reasoned determination that their benefits would justify their costs. In choosing among alternative regulatory approaches, we selected those approaches that would maximize net benefits. Based on an analysis of anticipated costs and benefits, we believe that this proposed regulatory action is consistent with the principles in Executive Order 13563.

We also have determined that this regulatory action would not unduly interfere with State, local, and Tribal governments in the exercise of their governmental functions.

Potential Costs and Benefits

In accordance with both Executive orders, the Department has assessed the potential costs and benefits, both quantitative and qualitative, of this regulatory action. The potential costs are those resulting from statutory requirements and those we have determined as necessary for administering the Department's programs and activities.

Proposed Priorities 1 and 2 would give the Department the opportunity to support applicants seeking to address the COVID-19 pandemic and equity issues. We believe that these proposed priorities and definitions could result in a number of changes, including infusing funds to support key areas of need related to pandemic-related learning loss and ongoing challenges of historically underserved students. We also believe that applicants will be able to leverage these priorities to propel current efforts to respond to the COVID-19 pandemic and explore innovative approaches to promoting equity. Such changes have the potential to change educational opportunities and outcomes for high-need students.

The Department believes that this proposed regulatory action would not impose significant costs on eligible entities, whose participation in our programs is voluntary, and costs can generally be covered with grant funds. As a result, the proposed priorities and definitions would not impose any particular burden except when an entity voluntarily elects to apply for a grant. We believe the benefits would outweigh any associated costs.

Clarity of the Regulations

Executive Order 12866 and the Presidential memorandum “Plain Language in Government Writing” require each agency to write regulations that are easy to understand.

The Secretary invites comments on how to make the proposed priorities and definitions easier to understand, including answers to questions such as the following:

• Are the requirements in the proposed regulations clearly stated?

• Do the proposed regulations contain technical terms or other wording that interferes with their clarity?

• Does the format of the proposed regulations (grouping and order of sections, use of headings, paragraphing, etc.) aid or reduce their clarity?

• Would the proposed regulations be easier to understand if we divided them into more (but shorter) sections?

• Could the description of the proposed regulations in the SUPPLEMENTARY INFORMATION section of this preamble be more helpful in making the proposed regulations easier to understand? If so, how?

• What else could we do to make the proposed regulations easier to understand?

Regulatory Flexibility Act Certification

The Secretary certifies that this proposed regulatory action would not have a significant economic impact on a substantial number of small entities. The U.S. Small Business Administration Size Standards define proprietary institutions as small businesses if they are independently owned and operated, are not dominant in their field of operation, and have total annual revenue below $7,000,000. Nonprofit institutions are defined as small entities if they are independently owned and operated and not dominant in their field of operation. Public institutions are defined as small organizations if they are operated by a government overseeing a population below 50,000.

The small entities that this proposed regulatory action would affect are public or private nonprofit agencies and organizations, including institutions of higher education, that may apply. We believe that the costs imposed on an applicant by the proposed priorities and definitions would be limited to paperwork burden related to preparing an application and that the benefits of these proposed priorities and definitions would outweigh any costs incurred by the applicant. Therefore, these proposed priorities and definitions would not have a significant economic impact on a substantial number of small entities.

Paperwork Reduction Act

The proposed priorities and requirement contain information collection requirements that are approved by OMB under OMB control numbers 1894-0006 and 1810-0021. The Expansion grants (84.411A) and Mid-phase grants (84.411B) programs are approved under OMB control number 1894-0006. The Early-phase grants program (84.411C) is approved under the OMB control number 1810-0021. The Department will request OMB approval under 1894-0006 for the Early-phase grants program (84.411C) around the same time this notice publishes.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Assessment of Educational Impact

In accordance with section 411 of the General Education Provisions Act, 20 U.S.C. 1221e-4, the Secretary particularly requests comments on whether the proposed regulations would require transmission of information that any other agency or authority of the United States gathers or makes available.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of the Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Ruth Ryder,
Deputy Assistant Secretary for Policy and Programs, Office of Elementary and Secondary Education.

[FR Doc. 2021-09371 Filed 4-30-21; 8:45 am]

BILLING CODE 4000-01-P